DEPARTMENT OF COMMERCE

International Trade Administration

[A-475-828]

Stainless Steel Butt-Weld Pipe Fittings from Italy; Rescission of Antidumping Duty Administrative Review

AGENCY: Import Administration, International Trade Administration, Department of Commerce.

ACTION: Notice of rescission of the Antidumping Duty Administrative Review for the period August 2, 2000, through January 31, 2002.

EFFECTIVE DATE: May 22, 2002.

FOR FURTHER INFORMATION CONTACT: Helen Kramer at (202) 482-0405, Import Administration, International Trade Administration, U.S. Department of Commerce, 14th Street and Constitution Avenue, NW, Washington, D.C. 20230.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department)'s regulations are to 19 CFR part 351 (2001).

Background

On February 1, 2002, the Department published in the Federal Register (67 FR 4945) a notice of opportunity to request an administrative review of the antidumping order regarding stainless steel butt-weld pipe fittings from Italy for the period August 2, 2000, through January 31, 2002. In accordance with 19 CFR 351.213(b)(2), on February 28, 2002, two merged producers/exporters of stainless steel butt-weld pipe fittings requested a joint review of the antidumping duty order on stainless steel butt-weld pipe fittings from Italy (i.e., Union Piping/ Coprosider S.P.A.).

On March 27, 2002, the Department initiated an administrative review for these companies (67 FR 14696) and issued a questionnaire to them. On April 25, 2002, Union Piping/ Coprosider S.P.A. withdrew their request for review.

Rescission of Review

Union Piping/Coprosider S.P.A. timely withdrew their request for an administrative review for the above-referenced period on April 25, 2002. No other interested party filed a request for review of these companies for this period of review. Consequently, in accordance with 19 CFR 351.213(d)(1) and consistent with our practice, we are rescinding this review of the antidumping duty order on stainless steel butt-weld pipe fittings from Italy for the period of August 2, 2000, through January 31, 2002. This notice is published in accordance with section 751 of the Act and 19 CFR 351.213(d)(4).

Dated: May 15, 2002
Faryar Shirzad,
Assistant Secretary for Import Administration.

[FR Doc. 02-12861 Filed 5-21-02; 8:45 am]

BILLING CODE 3510-DS-S